DEPARTMENT OF THE INTERIOR

National Park Service

[Account No. 3950-SZM]

Withdrawal of Notice of Intent To Prepare an Environmental Assessment for a Proposed Project Involving the Area in and Around President's Park South.

AGENCY: National Park Service, Interior.

ACTION: Notice of Withdrawal of Notice of Intent to Prepare an Environmental Assessment.

SUMMARY: The National Park Service and the United States Secret Service are withdrawing the September 22, 2010, Federal Register notice (75 FR 57811) announcing their intent to prepare an Environmental Assessment and to conduct scoping in accordance with the National Environmental Policy Act, 42 U.S.C. 4321 (NEPA), to aid their consideration of certain proposed actions, including permanent roadway closures, the re-design of security elements, and the preservation of the historic landscape within President's Park South, to include the portion of E Street, NW., between 15th Street and 17th Street, in Washington, DC. The scoping process, public comment period, and public meeting referenced in that notice are now cancelled.

DATES: Effective November 10, 2010.

FOR FURTHER INFORMATION CONTACT: The Office of the National Park Service Liaison to the White House, National Park Service, National Capital Region, 1100 Ohio Drive, SW., Washington, DC 20242, Telephone: (202) 619-6344.

SUPPLEMENTARY INFORMATION: The September 22, 2010, Federal Register notice was published in error. The notice will be reissued when the National Park Service and the United States Secret Service are ready to begin preparation of this NEPA Environmental Assessment, conduct scoping, and receive public comments. In that notice they expect to announce when a public scoping meeting will be held. Comments that have been received to date as a result of the September 22, 2010, Federal Register notice of scoping will be incorporated into this subsequent NEPA process.

Dated: October 8, 2010.
Lisa Mendelson-Ielmini,
Acting Regional Director, National Capital Region.

[FR Doc. 2010-28428 Filed 11-9-10; 8:45 am]

BILLING CODE 4312-54-P